INTERNATIONAL TRADE COMMISSION

[Investigation No. 731-TA-891 (Final)]

Foundry Coke From China

Determination

On the basis of the record ¹ developed in the subject investigation, the United States International Trade Commission determines, pursuant to section 735(b) of the Tariff Act of 1930 (19 U.S.C. 1673d(b)) (the Act), that an industry in the United States is materially injured by reason of imports from China of foundry coke, provided for in subheading 2704.00.00 of the Harmonized Tariff Schedule of the United States, that have been found by the Department of Commerce to be sold in the United States at less than fair value (LTFV).

¹ The record is defined in sec. 207.2(f) of the Commission's Rules of Practice and Procedure (19 CFR 207.2(f)).

Background

The Commission instituted this investigation effective September 20, 2000, following receipt of a petition filed with the Commission and Commerce by ABC Coke, Birmingham, AL; Citizens Gas & Coke Utility, Indianapolis, IN; Erie Coke Corp., Erie, PA; Tonawanda Coke Corp., Tonawanda, NY; and the United Steelworkers of America, AFL-CIO.² The final phase of the investigation was scheduled by the Commission following notification of a preliminary determination by Commerce that imports of foundry coke from China were being sold at LTFV within the meaning of section 733(b) of the Act (19 U.S.C. 1673b(b)). Notice of the scheduling of the Commission's investigation and of a public hearing to be held in connection therewith was given by posting copies of the notice in the Office of the Secretary, U.S. International Trade Commission, Washington, DC, and by publishing the notice in the Federal Register of May 9, 2001 (66 FR 23727).³ The hearing was held in Washington, DC, on July 26, 2001, and all persons who requested the opportunity were permitted to appear in person or by counsel.

² On February 15, 2001, Sloss Industrial Corp. was added as a petitioner to the investigation.

³ The Commission's scheduling notice was subsequently corrected (66 FR 29173, May 29, 2001).

The Commission transmitted its determination in this investigation to the Secretary of Commerce on September 5, 2001. The views of the Commission are contained in USITC Publication 3449 (September 2001), entitled Foundry Coke from China: Investigation No. 731-TA-891 (Final).

Issued: September 10, 2001.
By order of the Commission.
Donna R. Koehnke,
Secretary.

[FR Doc. 01-23076 Filed 9-13-01; 8:45 am]

BILLING CODE 7020-02-P